DEPARTMENT OF COMMERCE

International Trade Administration

Yale University, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3705, U.S. Department of Commerce, 14th and Constitution Avenue, NW., Washington, DC.

Docket Number: 09-064. Applicant: Yale University, New Haven, CT 06520-8284. Instrument: Electron Microscope, Quanta 3D Dual-Beam Focused Ion-Beam Tool. Manufacturer: FEI Company, Czech Republic. Intended Use: See notice at 74 FR 67851, December 21, 2009.

Docket Number: 09-065. Applicant: U.S. Department of Homeland Security, Science and Technology Directorate, Frederick, MD 21702. Instrument: Scanning Electron Microscope, Quanta 200 FEG. Manufacturer: FEI Company, Czech Republic. Intended Use: See notice at 74 FR 67851, December 21, 2009.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: January 19, 2010.
Christopher Cassel,
Director, Subsidies Enforcement Office, Import Administration.

[FR Doc. 2010-1338 Filed 1-22-10; 8:45 am]

BILLING CODE 3510-DS-P